DEPARTMENT OF HEALTH AND HUMAN SERVICES

National Institutes of Health

Center for Scientific Review; Amended Notice of Meeting

Notice is hereby given of a change in the meeting of the Center for Scientific Review Special Emphasis Panel, June 12, 2005, 7:30 a.m. to June 14, 2005, 3 p.m., Holiday Inn Select Bethesda, 8120 Wisconsin Ave, Bethesda, MD, 20814 which was published in the Federal Register on May 6, 2005, 70 FR 24099-24102.

The starting time of the meeting on June 12, 2005 has been changed to 7:30 p.m. until adjournment. The meeting dates and location remain the same. The meeting is closed to the public.

Dated: May 25, 2005.
LaVerne Y. Stringfield,
Director, Office of Federal Advisory Committee Policy.

[FR Doc. 05-11083 Filed 6-2-05; 8:45 am]

BILLING CODE 4140-01-M